DEPARTMENT OF JUSTICE

Notice of Lodging of Consent Decree Pursuant to the Resource Conservation and Recovery Act

Consistent with Departmental policy, 28 CFR 50.7, notice is hereby given that a proposed Consent Decree in United States and State of Hawaii v. University of Hawaii, Civil Action Number Cv 00-00806 DAE BMK, was lodged with the United States District Court for the District of Hawaii on December 18, 2000. On the same day, the United States and the State of Hawaii filed a Complaint pursuant to Section 3008 of the Resource Conservation and Recovery Act (RCRA), 42 U.S.C. 6928, and Hawaii Revised Statutes Chapter 342J-9 against the University of Hawaii (UH), alleging violations of federal and state hazardous waste laws at four of the University's facilities. The violations included operating hazardous waste treatment, storage, or disposal (TSD) facilities without a permit or interim status; failing to mark stored containers as “Hazardous Waste”; failing to mark the accumulation start dates on containers in storage facilities; and failing to determine whether hazardous wastes were being stored in various storage facilities.

The proposed Consent Decree, which settles the liability of UH for the violations alleged in the Complaint, provides that UH will undertake extensive injunctive relief, pay a civil penalty of $505,000 to be divided between the United States and the State and perform a Supplemental Environmental Project (SEP) valued at $1.2 million. Under the SEP, UH will investigate and implement pollution prevention or waste minimization projects on its campuses.

The Department of Justice will receive, for a period of thirty (30) days from the date of this publication, comments relating to the proposed Consent Decree. Comments should be addressed to the Assistant Attorney General for the Environment and Natural Resources Division, U.S. Department of Justice, P.O. Box 7611, Washington, DC 20044; and refer to United States and State of Hawaii v. University of Hawaii, DOJ Ref. #90-7-1-06130.

The proposed settlement agreement may be examined at the Office of the United States Attorney, PJKK Federal Building, 300 Ala Moana Blvd., Honolulu, Hawaii and at the Environmental Protection Agency, Region 9, 75 Hawthorne Street, San Francisco, CA 94105. A copy of the proposed Consent Decree may be obtained by mail from the Department of Justice Consent Decree Library, P.O. Box 7611, Washington, DC 20044. In requesting a copy please refer to the referenced case and enclose a check in the amount of $12.25 (25 cents per page reproduction costs), payable to the Consent Decree Library.

Walker B. Smith,
Deputy Chief, Environmental Enforcement Section, Environment and Natural Resources Division.

[FR Doc. 00-33385 Filed 12-29-00; 8:45 am]

BILLING CODE 4410-15-M